DEPARTMENT OF TRANSPORTATION

Federal Railroad Administration

[Docket No. FRA-2015-0007-N-8]

Agency Request for Emergency Processing of Collection of Information by the Office of Management and Budget

AGENCY: Federal Railroad Administration (FRA), United States Department of Transportation (USDOT).

ACTION: Notice.

SUMMARY: FRA hereby gives notice that it is submitting the following Information Collection request (ICR) to the Office of Management and Budget (OMB) for emergency processing under the Paperwork Reduction Act of 1995. FRA requests that OMB authorize the collection of information identified below immediately upon publication of this Notice for a period of 180 days.

FOR FURTHER INFORMATION CONTACT: A copy of this individual ICR, with applicable supporting documentation, may be obtained by telephoning FRA's Office of Railroad Safety Clearance Officer: Robert Brogan (tel. (202) 493-6292) or FRA's Office of Administration Clearance Officer: Kimberly Toone (tel. (202) 493-6132) (these numbers are not toll-free); or by contacting Mr. Brogan via facsimile at (202) 493-6216 or Ms. Toone via facsimile at (202) 493-6497, or via email by contacting Mr. Brogan at Robert.Brogan@dot.gov; or by contacting Ms. Toone at Kim.Toone@dot.gov. Comments and questions about the ICR identified below should be directed to OMB's Office of Information and Regulatory Affairs, Attn: FRA OMB Desk Officer.

SUPPLEMENTARY INFORMATION: Recent derailments have occurred involving trains transporting large quantities of petroleum crude oil and ethanol. Preliminary investigation of one of these recent derailments involving a crude oil train indicates that a mechanical defect involving a broken tank car wheel may have caused or contributed to the incident. FRA is is issuing Safety Advisory 2015-01 to make recommendations to enhance the mechanical safety of the cars in trains transporting large quantities of flammable liquids. The Safety Advisory recommends that railroads use highly qualified individuals to conduct the brake and mechanical inspections and recommends a reduction to the impact threshold levels the industry currently uses for wayside detectors that measure wheel impacts to ensure the wheel integrity of tank cars in those trains.

Title: Mechanical Inspections and Wheel Impact Detector Standards for Trains Transporting Large Amounts of Class 3 Flammable Liquids.

Reporting Burden:

Safety advisory 2015-01 | Respondent universe | Total annual responses | Average time per response (minutes) | Total annual burden (hours)
(1) Maintenance Advisories from Railroads to Car Owners after Wheel Impact Load Detector (WILD) Automatic Notification that Detects an Impact Above Threshold of 60kips | 70 Railroads | 350,000 Advisories | 1 | 5,833
(2) Records of Initial Terminal Brake Inspection by Qualified Mechanical Inspector and Records of Freight Car Inspections at Initial Terminals with Designated Inspectors | 70 Railroads | 1,000 Inspections/Records | 30 | 500

Form Number(s): N/A.

Respondent Universe: 70 Railroads.

Frequency of Submission: One-time; on occasion.

Total Estimated Responses: 351,000.

Total Estimated Annual Burden: 6,333 hours.

Status: Emergency Review.

Pursuant to 44 U.S.C. 3507(a) and 5 CFR 320.5(b), 1320.8(b)(3)(vi), FRA informs all interested parties that it may not conduct or sponsor, and a respondent is not required to respond to, a collection of information unless it displays a currently valid OMB control number.

Authority: 44 U.S.C. 3501-3520.

Erin McCartney,
Budget Director.

[FR Doc. 2015-09704 Filed 4-24-15; 8:45 am]

BILLING CODE 4910-06-P